SECURITIES AND EXCHANGE COMMISSION

[File No. 500-1]

In the Matter of First Georgia Community Corp., FLO Corp., Florida Community Banks, Inc., In Touch Media Group, Inc., and NHS Health Solutions, Inc.; Order of Suspension of Trading

July 18, 2013.

It appears to the Securities and Exchange Commission that there is a lack of current and accurate information concerning the securities of First Georgia Community Corp. because it has not filed any periodic reports since the period ended September 30, 2007.

It appears to the Securities and Exchange Commission that there is a lack of current and accurate information concerning the securities of FLO Corp. because it has not filed any periodic reports since the period ended June 30, 2008.

It appears to the Securities and Exchange Commission that there is a lack of current and accurate information concerning the securities of Florida Community Banks, Inc. because it has not filed any periodic reports since the period ended September 30, 2009.

It appears to the Securities and Exchange Commission that there is a lack of current and accurate information concerning the securities of In Touch Media Group, Inc. because it has not filed any periodic reports since the period ended September 30, 2006.

It appears to the Securities and Exchange Commission that there is a lack of current and accurate information concerning the securities of NHS Health Solutions, Inc. because it has not filed any periodic reports since the period ended September 30, 2003.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on July 18, 2013, through 11:59 p.m. EDT on July 31, 2013.

By the Commission.
Jill M. Peterson,
Assistant Secretary.

[FR Doc. 2013-17633 Filed 7-18-13; 4:15 pm]

BILLING CODE 8011-01-P